DEPARTMENT OF STATE

[Public Notice 4779]

Notice of Meeting of the Cultural Property Advisory Committee

In accordance with the provisions of the Convention on Cultural Property Implementation Act (19 U.S.C. 2601 et seq.) there will be a meeting of the Cultural Property Advisory Committee on Thursday, September 9, 2004, from approximately 9 a.m. to 5 p.m., and on Friday, September 10, from approximately 9 a.m. to 2 p.m., at the Department of State, Annex 44, Room 840, 301 4th St., SW., Washington, DC. During its meeting the Committee will review a request from the Government of the Republic of Colombia to the Government of the United States of America. Concerned that its cultural heritage is in jeopardy from pillage, the Government of the Republic of Colombia made this request under Article 9 of the 1970 UNESCO Convention.

The Committee's responsibilities are carried out in accordance with provisions of the Convention on Cultural Property Implementation Act (19 U.S.C. 2601 et seq.). The text of the Act, a public summary of this request, and related information may be found at http://exchanges.state.gov/culprop. Portions of the meeting on September 9 and 10 will be closed pursuant to 5 U.S.C. 552b(c)(9)(B) and 19 U.S.C. 2605(h). However, on September 9, the Committee will hold an open session, approximately 10:30 a.m. to 12 noon, to receive oral public comment on the Colombia request. Persons wishing to attend this open session should notify the Cultural Heritage Center of the Department of State at (202) 619-6612 by Thursday, September 2, 2004, 3 p.m. (e.d.t.) to arrange for admission, as seating is limited.

Those who wish to make oral presentations should request to be scheduled and submit a written text of the oral comments by September 2 to allow time for distribution to Committee members prior to the meeting. Oral comments will be limited to five minutes each to allow time for questions from members of the Committee and must specifically address the determinations under section 303(a)(1) of the Convention on Cultural Property Implementation Act, 19 U.S.C. 2602, pursuant to which the Committee must make findings. This citation for the determinations can be found at the Web site noted above.

The Committee also invites written comments and asks that they be submitted no later than September 2. All written materials, including the written texts of oral statements, should be faxed to (202) 260-4893.

Dated: July 27, 2004.
C. Miller Crouch,
Acting Assistant Secretary for Educational and Cultural Affairs, Department of State.

[FR Doc. 04-17784 Filed 8-3-04; 8:45 am]

BILLING CODE 4710-05-P